DEPARTMENT OF TRANSPORTATION

Federal Aviation Administration

[Docket No.: FAA-2022-1137]

National Policy Regarding Aircraft Certification Service (AIR) Issue Resolution and Appeal Processes

AGENCY: Federal Aviation Administration (FAA), DOT.

ACTION: Notification of availability; request for comments.

SUMMARY: This draft order would modify and establish certain issue resolution and appeal processes related to type certification activities.

DATES: Comments on this draft order must identify the docket number and must be received on or before September 26, 2022.

ADDRESSES: Send comments with the subject line, “Aircraft Certification Service (AIR) Issue Resolution and Appeal Processes” identified by docket number FAA-2022-1137, using the following method:

• Federal eRegulations Portal: Go to http://www.regulations.gov and follow the online instructions for sending your comments electronically.

• Mail: Send comments to Docket Operations, M-30, U.S. Department of Transportation (DOT), 1200 New Jersey Avenue SE, Room W12-140, West Building Ground Floor, Washington, DC 20590-0001.

• Hand Delivery of Courier: Take comments to Docket Operations in Room W12-140 of the West Building Ground Floor at 1200 New Jersey Avenue SE, Washington, DC, between 9 a.m., and 5 p.m., Monday through Friday, except Federal holidays.

• Fax: Fax comments to Docket Operations at 202-493-2251.

Privacy: In addition to the final order, the FAA will post all comments it receives, without change, to https://www.regulations.gov/, including any personal information the commenter provides. DOT's complete Privacy Act Statement can be found in the Federal Register published on April 11, 2000 (65 FR 19477-19478), as well as at http://DocketsInfo.dot.gov.

FOR FURTHER INFORMATION CONTACT: Elizabeth Bumann, Aircraft Certification Service, AIR-600, by email at Elizabeth.Bumann@faa.gov, or by phone at (405) 954-8803.

SUPPLEMENTARY INFORMATION:

Discussion

Section 110 of the Aircraft Certification, Safety, and Accountability Act, Public Law 116-260 (the Act) requires the FAA to issue an order establishing an issue resolution process for certain type certification activities. Section 110 also requires the FAA to establish a process that provides certain persons with the right to appeal decisions, findings, and acts with respect to compliance with design requirements. This order would be issued to meet the requirements of section 110, and a draft may be examined in the docket, and at https://www.faa.gov/aircraft/draft/docs/.

Comments Invited

The FAA invites the public to submit comments on the draft order, as specified in the ADDRESSES section of this Notice. Commenters should include the subject line, “Aircraft Certification Service (AIR) Issue Resolution and Appeal Processes,” on all comments submitted to the FAA. The most helpful comments will reference a specific recommendation, explain the reason for any recommended change, and include supporting information. The FAA will consider all comments received on or before the closing date before issuing the final order. The FAA will also consider late-filed comments if it is possible to do so without incurring expense or delay.

Issued in Washington, DC, on August 19, 2022.
Victor Wicklund,
Acting Director, Policy and Innovation Division, Aircraft Certification Service.

[FR Doc. 2022-18305 Filed 8-24-22; 8:45 am]

BILLING CODE 4910-13-P